DEPARTMENT OF DEFENSE

Department of the Navy

Notice of Availability of Record of Decision for the Final Environmental Impact Statement for Military Readiness Activities at the Fallon Training Range Complex, Nevada

AGENCY: Department of the Navy, DoD.

ACTION: Notice.

SUMMARY: The Department of the Navy (DoN), after carefully weighing the strategic, operational, and environmental consequences of the proposed action, announces its decision to continue and enhance training activities as identified in Alternative 2 in the Final Environmental Impact Statement for Military Readiness Activities at the Fallon Range Training Complex. This alternative includes a 16 percent increase in existing aviation and ground training activities, the transition to new weapons platforms and systems as they become available to the DoN, and new ground training activities. Implementation of Alternative 2 will enable the DoN to achieve the levels of operational readiness required under section 5062 title 10 U.S.C. without resulting in significant environmental impacts.

SUPPLEMENTARY INFORMATION: The complete text of the Record of Decision is available at http://frtceis.com. Single copies of the Record of Decision are available upon request by contacting: FRTC EIS Project Manager, Naval Facilities Engineering Command Southwest, 1220 Pacific Highway, San Diego, California 92132.

Dated: March 1, 2016.
N.A. Hagerty-Ford,
Commander, Judge Advocate General's Corps, U.S. Navy, Federal Register Liaison Officer.

[FR Doc. 2016-05379 Filed 3-9-16; 8:45 am]

BILLING CODE 3810-FF-P